ENVIRONMENTAL PROTECTION AGENCY

40 CFR Part 60

[EPA-R08-OAR-2014-0272; FRL-9917-48-Region 8]

Automatic Delegation of Authority to the States of Colorado, Montana, North Dakota, South Dakota, Utah, and Wyoming To Implement and Enforce New Source Performance Standards

AGENCY: Environmental Protection Agency (EPA).

ACTION: Proposed rule.

SUMMARY: This action informs the public that on February 27, 2014, the EPA authorized automatic delegation to implement and enforce Clean Air Act New Source Performance Standards (NSPS) to the states of Colorado, Montana, North Dakota, South Dakota, Utah, and Wyoming (hereafter Region 8 states). Also in this action, we propose to delete the delegation status table of NSPS for Region 8 states in the Code of Federal Regulations at 40 CFR part 60.4(c) and replace it with a Web page address reflecting current delegation status of Region 8 states.

DATES: Written comments must be received on or before November 10, 2014.

ADDRESSES: Submit your comments, identified by Docket number EPA-R08-OAR-2014-0272, by one of the following methods:

• http://www.regulations.gov. Follow the on-line instructions for submitting comments.

• Email: fulton.abby@epa.gov.

• Fax: (303) 312-6064 (please alert the individual listed in the FOR FURTHER INFORMATION CONTACT if you are faxing comments).

• Mail: Director, Air Program, Environmental Protection Agency (EPA), Region 8, Mailcode 8P-AR, 1595 Wynkoop Street, Denver, Colorado 80202-1129.

• Hand Delivery: Director, Air Program, Environmental Protection Agency (EPA), Region 8, Mailcode 8P-AR, 1595 Wynkoop Street, Denver, Colorado 80202-1129. Such deliveries are only accepted Monday through Friday, 8:00 a.m. to 4:30 p.m., excluding Federal holidays. Special arrangements should be made for deliveries of boxed information.

Please see the direct final rule which is located in the Rules Section of this Federal Register for detailed instruction on how to submit comments.

FOR FURTHER INFORMATION CONTACT: Abby Fulton, Air Program, U.S. Environmental Protection Agency (EPA), Region 8, Mailcode 8P-AR, 1595 Wynkoop Street, Denver, Colorado 80202-1129. (303) 312-6563, fulton.abby@epa.gov.

SUPPLEMENTARY INFORMATION: In the “Rules and Regulations” section of this Federal Register, EPA is approving the revision as a direct final rule without prior proposal because the Agency views this as a noncontroversial revision and anticipates no adverse comments. A detailed rationale for the approval is set forth in the preamble to the direct final rule. If EPA receives no adverse comments, EPA will not take further action on this proposed rule. If EPA receives adverse comments, EPA will withdraw the direct final rule and it will not take effect. EPA will address all public comments in a subsequent final rule based on this proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment. See the information provided in the Direct Final action of the same title which is located in the Rules and Regulations Section of this Federal Register.

Authority: 42 U.S.C. 7401 et seq.

Dated: September 18, 2014.
Shaun L. McGrath,
Regional Administrator, Region 8.

[FR Doc. 2014-23766 Filed 10-8-14; 8:45 am]

BILLING CODE 6560-50-P